GENERAL SERVICES ADMINISTRATION

41 CFR Parts 300-3, 301-50, 301-52, 301-70, and 301-73

[FTR Case 2003-303]

RIN 3090-AH83

Federal Travel Regulation; eTravel Service (eTS)

AGENCY: Office of Governmentwide Policy, General Services Administration (GSA).

ACTION: Proposed rule.

SUMMARY: The General Services Administration (GSA) is proposing to amend the Federal Travel Regulation (FTR) by revising the term Travel Management System (TMS) to Travel Management Service and by revising its definition. New terms and definitions for the eTravel Program Management Office (PMO) will also be added. This proposed rule will also amend the FTR requirements dealing with employees' use of their agencies' Travel Management Service (TMS) and the eTravel Service (eTS). The eTravel PMO will provide migration planning tools, coordinate migration planning meetings, and provide migration planning support beginning July 2003. This proposed rule requires agencies to begin implementing the eTS no later than December 31, 2004, and to complete migration to eTS for full agency-wide use by September 30, 2006. This proposed rule will also require agencies to submit migration plans and schedules to the eTravel PMO no later than March 31, 2004. This proposed rule specifies that award of a task order to a vendor under the impending eTS Master Contract for implementation services, authorization and travel claim services, and (if applicable) reservation and fulfillment services will constitute the beginning of eTS implementation for an agency. Agency-wide use of the eTS (accommodating FedTrip through September 30, 2004, and agency-contracted Travel Management Center support, if applicable) for all travel management processes and travel claim submissions will constitute complete migration. Under this proposed rule, agencies will be required to allocate the budget and personnel resources necessary to support eTS implementation, training, and use data exchange. This will include programming agency funds to establish interfaces between the eTS standard data output and their applicable business systems. This proposed regulation is in accordance with the President's Management Agenda for fiscal year 2002.

DATES: Comments must be received on or before July 30, 2003.

ADDRESSES: Submit written comments to—General Services Administration, Regulatory Secretariat (MVA), 1800 F Street, NW., Room 4035, ATTN: Laurie Duarte, Washington, DC 20405.

Submit electronic comments via the Internet to FTRCase.2003-303@gsa.gov.

Please submit comments only and cite FTR Case 2003-303 in all correspondence related to this proposed rule.

FOR FURTHER INFORMATION CONTACT: The Regulatory Secretariat, Room 4035, GS Building, Washington, DC, 20405, (202) 208-7312, for information pertaining to status or publication schedules. For clarification of content, contact Umeki Thorne, Program Analyst, Office of Governmentwide Policy, Travel Management Policy, at (202) 208-7636. Please cite FTR case 2003-303.

SUPPLEMENTARY INFORMATION:

A. Background

The President's Management Agenda (PMA) for fiscal year 2002 identified five Governmentwide goals to improve Federal management and deliver results. As a result of the PMA, a governmentwide task force known as QuickSilver was established to address performance gaps in existing Government systems as they relate to E-Government, and to improve internal efficiency and effectiveness throughout the Federal Government. Accordingly, in support of the PMA, the Government is procuring the eTravel Service (eTS). The eTS will automate and consolidate the Federal Government's travel process in a web-centric environment, covering all aspects of travel from authorizations and reservations to travel claims and voucher reconciliation. It will eliminate the paper process still in place in many agencies, while leveraging administrative, financial and information technology best practices. The eTS will support reengineering of the entire travel process to realize significant cost savings and improved employee productivity. The eTS will replace Executive branch agencies' current Travel Management System (TMS). To obtain management efficiencies and cost savings across the executive branch, this proposed regulation will require all agencies subject to the Federal Travel Regulation (FTR) to begin implementation of the eTS as soon as possible, but no later than December 31, 2004. Award of a task order to a vendor under the eTS Master Contract for implementation services, authorization and travel claim services, and (if applicable) reservation and fulfillment services constitutes the beginning of eTS implementation for an agency. Agency-wide use of the eTS (accommodating FedTrip through September 30, 2004, and agency-contracted Travel Management Center support, if applicable) for all travel management processes and travel claim submission constitutes complete migration. The Department of the Defense (DoD) is not subject to this requirement.

B. Proposed Changes

This proposed rule:

• Amends FTR 300-3.1 by adding a new terms and definitions, “eTravel Program Management Office (eTravel PMO), and “eTravel Service,” removing the definition “travel management system” and adding a new definition “travel management service.”

• Revises FTR Part 301-50 to incorporate the required use of the eTravel Service in its entirety;

• Revises FTR Part 301-52.3;

• Revises FTR 301-70.1;

Revises FTR Part 301-73, Subpart A, General Rules, to incorporate new policy and guidance on agency requirements, and Subpart B, Travel Management Services.

C. Executive Order 12866

GSA has determined that this proposed rule is not a significant regulatory action for the purposes of Executive Order 12866 of September 30, 1993.

D. Regulatory Flexibility Act

This proposed rule is not required to be published in the Federal Register for notice and comment; therefore, the Regulatory Flexibility Act, 5 U.S.C. 601, et seq., does not apply.

E. Paperwork Reduction Act

The Paperwork Reduction Act does not apply because this proposed rule does not impose recordkeeping or information collection requirements, or the collection of information from offerors, contractors, or members of the public which require the approval of the Office of Management and Budget under 44 U.S.C. 501 et seq.

F. Small Business Regulatory Enforcement Fairness Act

This proposed rule is also exempt from congressional review under 5 U.S.C. 801 since it relates solely to agency management and personnel.

List of Subjects in 41 CFR Parts 300-3, 301-50, 301-52, 301-70, and 301-73

Government employees, Travel and transportation expenses.

Dated: June 24, 2003.
G. Martin Wagner,
Associate Administrator, Office of Governmentwide Policy.

For the reasons set out in this preamble, 41 CFR parts 300-3, 301-50, 301-52, 301-70 and 301-73 are proposed to be amended as set forth below:

PART 300-3—GLOSSARY OF TERMS

1. The authority citation for 41 CFR part 300-3 is revised to read as follows:

Authority: 5 U.S.C. 5707; 5 U.S.C. 5738; 5 U.S.C. 5741-5742; 20 U.S.C. 905(a); 31 U.S.C. 1353; 40 U.S.C. 121(c); 49 U.S.C. 40118; E.O. 11609, 3 CFR, 1971-1975 Comp., p.586.

2. Amend § 300-3.1 by removing the term and definition “Travel Management System (TMS)”; and adding in alphabetical order the terms and definitions “eTravel Program Management Office (eTravel PMO)”, “eTravel Service (eTS)” and “Travel Management Service (TMS)” to read as follows:

§ 300-3.1 What do the following terms mean?

* * * * *

eTravel Program Management Office (eTravel PMO)—(1) The office within the General Services Administration (GSA) that is responsible for eTravel Service (eTS) contract management and administration, including the following activities:

(i) Agency eTS task order coordination;

(ii) Guidance for agency implementation of the eTS;

(iii) Travel business data warehouse; and

(iv) Professional Federal travel manager development programs.

(2) This office will operate under the policy direction of the Office of Governmentwide Policy, which will continue to lead Federal travel process reengineering, agency Federal travel management program coordination, and related activities that support world class travel management across the Federal Government.

eTravel Service (eTS)—The common Governmentwide end-to-end travel management service that automates and consolidates the Federal travel process in a web-centric environment, covering all aspects of travel planning, from authorization, reservations, expense reporting, and reimbursement. The eTS replaces Travel Management Services (TMS) for Executive branch agencies. (See § 301-73.100 of this chapter.)

* * * * *

Travel Management Service (TMS)—A service for booking common carrier (e.g., air, rail, bus confirmations and seat assignments), lodging, and car rental reservations; fulfilling (i.e. ticketing) reservations; providing basic management information on those activities; and meeting other requirements as specified in § 301-73.105 of this chapter. A TMS may include a Travel Management Center (TMC), Commercial Ticket Office (CTO), an electronically available system, an in-house system, or other commercial methods of arranging travel.

3. Part 301-50 is revised to read as follows:

PART 301-50—ARRANGING FOR TRAVEL SERVICES

Sec.
301-50.1 To whom do the pronouns “I”, “you”, and their variants throughout this part refer?
301-50.2 How should I arrange my travel?
301-50.3 Must I use the eTravel Service to arrange my travel?
301-73.1 Who in my agency has the authority to waive the required use of a Travel Management Service or the eTravel Service?
301-50.5 What is my liability if I do not use my agency's Travel Management Service or the eTravel Service?
301-50.6 Are there any limits on the travel arrangements I may make?

Authority: 5 U.S.C. 5707; 40 U.S.C. 121(c).

§ 301-50.1 To whom do the pronouns “I”, “you”, and their variants throughout this part refer?

In this part, the pronouns “I”, “you”, and their variants refer to the employee.

§ 301-50.2 How should I arrange my travel?

You must arrange your travel as designated by your agency and in accordance with these regulations.

§ 301-50.3 Must I use the eTravel Service to arrange my travel?

Yes, you must use the eTravel Service when it becomes available in your agency, unless a waiver has been granted as provided in §§ 301-50.4, 301-73.102 or § 301-73.103 of this chapter. Until then, you must use your agency's Travel Management Service (TMS) to make your travel arrangements. The eTS replaces the TMS for Executive branch agencies no later than September 30, 2006. The Department of Defense is not presently subject to this requirement.

§ 301-50.4 Who in my agency has the authority to waive the required use of a Travel Management Service or the eTravel Service?

The head of your agency or his/her designee(s) has (have) the authority to grant individual waivers from the required use of a Travel Management Service or the eTravel Service on a case-by-case basis. Waivers must be limited to security reasons, necessity of disability accommodations or special needs in accordance with Part 301-13 of this chapter, or invitational travel.

§ 301-50.5 What is my liability if I do not use my agency's Travel Management Service or the eTravel Service?

You are responsible for any additional costs resulting from the failure to use the Travel Management Service or eTravel Service, including service fees, cancellation penalties, or other additional costs (e.g. higher airfares, rental car charges, or hotel rates). In addition, your agency may take appropriate disciplinary action.

§ 301-50.6 Are there any limits on the travel arrangements I may make?

Yes, there are limits on the travel arrangements you may make for common carrier, commercial lodging, and car rental accommodations.

(a) Common carrier accommodations.

(1) If your agency is a mandatory user of the GSA city-pair contracts for air passenger transportation services, you must use the contract carrier, unless you have an approved exemption (See §§ 301-10.107 and 301-10.108 of this chapter);

(2) You may only use Premium-class accommodations in accordance with §§ 301-10.121 through 301-10.124, 301-10.162, and 301-10.143 of this chapter; and

(3) You must always use a U.S. Flag Air Carrier unless your travel circumstances meet one of the exceptions in §§ 301-10.131 through 301-10.143 of this Subchapter B.

(b) Lodging accommodations. You should always stay in a “fire safe” facility. This is a facility that meets the fire safety requirements of the Hotel and Motel Fire Safety Act of 1990, as amended (see 5 U.S.C. 5707a). When selecting a commercial lodging facility, first consideration must be given to the commercial lodging facilities contracted by GSA under the Federal Premier Lodging Program (FPLP) (a list of FPLP facilities may be found at http://www.gsa.gov/fplp), all of which meet fire safety requirements), unless one or more of the following conditions exist:

(1) A FPLP facility is not available at the location you need (e.g. there are no FPLP facilities under contract within a reasonable proximity of your temporary duty station, or there are no vacancies at the FPLP facilities at the location). Your agency's TMS or eTravel Service (eTS) must provide you with a list of alternative facilities that meet the fire safety requirements of the Act.

(2) Your agency has other contractual arrangements with commercial lodging facilities that meet the FEMA fire safety requirements at a lower cost than FPLP properties.

(3) Your agency determines on a case-by-case basis that it is not practical to use FPLP facilities to meet mission requirements.

(4) You are attending a conference with prearranged lodging accommodations and are required to book lodging directly with the lodging facility; or

(5) Your travel is OCONUS.

(c) Car rental accommodations. When authorized to use a rental vehicle under § 301-10.450 of this chapter, you must rent a vehicle from a vendor that participates in the Military Traffic Management Command (MTMC) Government Car Rental Agreement, unless you are OCONUS, and no agreement is in place for your TDY location. MTMC has negotiated rental car agreements that include automatic unlimited mileage, collision damage insurance, and fixed rates.

PART 301-52—CLAIMING REIMBURSEMENT

6. The authority citation for 41 CFR part 301-52 is revised to read as follows:

Authority: 5 U.S.C. 5707; 40 U.S.C. 121(c); Sec. 2., Pub.L. 105-264, 112 Stat. 2350 (5 U.S.C. 5701 note).

7. Revise § 301-52.3 to read as follows:

§ 301-52.3 Am I required to file a travel claim in a specific format and must the claim be signed?

As soon as your agency migrates to the eTS, and no later than September 30, 2006, you must use the eTS to file all of your travel claims. Until that time you must file your travel claim in the format prescribed by your agency. If the prescribed travel claim is hardcopy, the claim must be signed in ink; if your agency has electronic processing, use your electronic signature where applicable. Any alterations or erasures to your hardcopy travel claim must be initialed.

PART 301-70—INTERNAL POLICY AND PROCEDURE REQUIREMENTS

8. The authority citation for 41 CFR part 301-70 is revised to read as follows:

Authority: 5 U.S.C. 5707; 40 U.S.C. 121(c); Sec 2, Pub.L. 105-264, 112 Stat. 2350 (5 U.S.C. 5701 note.)

9. Revise § 301-70.1 to read as follows:

§ 301-70.1 How must we administer the authorization and payment of travel expenses?

When administering the authorization and payment of travel expenses, you:

(a) Must limit the authorization and payment of travel expenses to travel that is necessary to accomplish your mission in the most economical and effective manner, in accordance with the rules stated throughout this chapter;

(b) Should give consideration to budget constraints, adherence to travel policies, and reasonableness of expenses;

(c) Should always consider alternatives, including teleconferencing, prior to authorizing travel; and

(d) Must require employees to use the eTS to process travel authorizations and claims of travel expenses once you migrate to the eTS, and no later than September 30, 2006, unless a waiver has been granted in accordance with § 301-73.102 or § 301-73.103 of this chapter.

10. The authority citation for 41 CFR part 301-73 is revised to read as follows:

Authority: 5 U.S.C. 5707; 40 U.S.C. 121(c).

11. Part 301-73 is amended by revising Subparts A and B to read as follows:

PART 301-73—TRAVEL PROGRAMS

Subpart A—General Rules

Sec.

301-73.1 What does the Federal travel management program include?

301-73.2 What are our responsibilities as participants in the Federal travel management program?

Subpart B—eTravel Service and Travel Management Service

301-73.100 Must we require employees to use the eTravel Service?

301-73.101 How must we prepare to implement the eTravel Service?

301-73.102 May we grant waivers to the use of the eTravel Service or the Travel Management Service?

301-73.103 May additional waivers be granted to the required use of the eTravel Service or the Travel Management Service?

301-73.104 What are the consequences of an employee not using the eTravel Service or the Travel Management Service?

301-73.105 What are the basic services that should be covered by a Travel Management Service?

Subpart A—General Rules

§ 301-73.1 What does the Federal travel management program include?

The Federal travel management program includes the following:

(a) A travel authorization and claim system that implements the related requirements of the Federal Travel Regulation. (See §§ 301-2.1 and 301-52.3 and part 301-71 of this chapter for those requirements).

(b) A Travel Management Service that provides reservation and ticketing support and management reports on reservation and ticketing activities. (See § 301-73.105 for specific services that should be provided by a TMS.).

(c) A travel payment system for paying travel service providers (e.g., Government contractor-issued individually billed cards, centrally billed accounts, and travelers checks in accordance with §§ 301-70.700 through 301-70.707 of this chapter).

(d) Contracts and similar arrangements, with transportation and lodging providers (e.g. government-contract air carriers, rental car companies, trains, hotels (e.g. FPLP properties), etc.) that give preferential rates and other benefits to Federal travelers on official business.

(e) A Travel Management Reporting System that covers financial and other travel characteristics required by the biennial Travel Survey (see §§ 300-70.1 through 300-70.4 of this subtitle) that are not covered by the Travel Management Service.

(f) The eTravel Service (eTS), upon its implementation by your agency. The eTS will replace the functions performed by the travel authorization and claim system, the Travel Management Service (TMS) and Travel Management Reporting Systems listed above. You must begin migration to the eTS no later than December 31, 2004, and must fully implement the eTS no later than September 30, 2006.

Note: Award of a task order to a vendor on the eTravel PMO eTS Master Contract for implementation services, authorization and travel claim services, and (if applicable) reservation and fulfillment services constitutes the beginning of eTS implementation for an agency. Agency-wide use of the eTS (accommodating FedTrip through September 30, 2004, and agency-contracted Travel Management Center support, if applicable) for all travel management processes and travel claim submission constitutes complete migration.

§ 301-73.2 What are our responsibilities as participants in the Federal travel management program?

As a participant in the Federal travel management program, you must—

(a) Designate an authorized representative to administer the program including leading your agency's implementation of the eTS;

(b) Ensure that you have internal policies and procedures in place to govern use of the program including a plan and timeline to begin eTS implementation no later than December 31, 2004, with agency-wide adoption of eTS completed no later than September 30, 2006;

(c) Establish a plan that will measure cost savings and management efficiencies through the use of the eTS once implemented. This plan must include your migration plan and schedule for eTS implementation which must be submitted by March 31, 2004 to the eTravel PMO, U.S. General Services Administration, 1 Crystal Park, Mail Stop 1AA, 2011 Crystal Drive, Suite 911, Arlington, VA 22202 for coordination and approval;

(d) Require employees to use the eTS in lieu of your Travel Management Service as soon as it becomes available in your agency, but no later than September 30, 2006; and

(e) Ensure that any agency-contracted travel agent services outside the eTS complement and support the eTS in an efficient and cost effective manner.

Note: The eTravel Program Management Office (eTravel PMO) will provide agency migration planning tools and templates, coordinate migration planning meetings, and provide migration planning support beginning July 2003.

Subpart B—eTravel Service and Travel Management Service

§ 301-73.100 Must we require employees to use the eTravel Service?

Yes, as soon as possible, but no later than September 30, 2006, you must have fully implemented eTravel Service (eTS) across your agency and require employees to use the eTS for all temporary duty travel, unless a waiver has been granted. (See §§ 301-73.102 and 301-73.103). You must begin migration to the eTS no later than December 31, 2004, and require employees to use the eTS as soon as it becomes available in your agency. Agencies must submit their eTS migration plans and schedules by March 31, 2004, to the eTravel PMO, U.S. General Services Administration, 1 Crystal Park, Mail Stop 1AA, 2011 Crystal Drive, Suite 911, Arlington, VA 22202 for coordination and approval. The Department of Defense is not presently subject to this requirement.

Note to § 301-73.100: (1) You have the option to use contracted travel agent service(s) of your choice (through the eTS or other contract vehicles). (2) Award of a task order to a vendor on the eTravel PMO eTS Master Contract for implementation services, authorization and travel claim services, (and if applicable) reservations and fulfillment services constitutes the beginning of eTS implementation for your agency. Agency-wide use of the eTS (accommodating FedTrip through September 30, 2004, and agency-contracted Travel Management Center support, if applicable) for all travel management processes and travel claim submission constitutes complete migration.

§ 301-73.101 How must we prepare to implement the eTravel Service?

You must prepare to implement the eTravel Service (eTS) as expeditiously as possible by—

(a) Developing a migration plan and schedule to implement eTS across your agency as early as possible with full implementation required no later than September 30, 2006;

(b) Submitting your eTS implementation plan and schedule by March 31, 2004 to the eTravel PMO, U.S. General Services Administration, 1 Crystal Park, Mail Stop 1AA, 2011 Crystal Drive, Suite 911, Arlington, VA 22202, for coordination and approval; and

(c) Allocating your budget and personnel resources to support eTS implementation, training, and data exchange. Agencies must program the funds required to establish interfaces between the eTS standard data output and your applicable business systems (e.g.,, financial, human resources, etc.)

§ 301-73.102 May we grant waivers to the use of the eTravel Service or the Travel Management Service?

Your agency head or his/her designee(s) has (have) the authority to grant waivers from the use of a Travel Management Service or the eTravel Service, on a case-by-case basis (i.e., you may not grant a waiver for your entire agency). Such waivers are limited to security reasons, necessity of disability accommodations or special needs (in accordance with part 301-13 of this chapter), or invitational travel.

§ 301-73.103 May additional waivers be granted to the required use of the eTravel Service or the Travel Management Service?

(a) The Associate Administrator for the Office of Governmentwide Policy within the General Services Administration, or his/her designee, may grant agency waivers, from the required use of the eTravel Service (eTS) or a Travel Management Service (TMS) only when—

(1) It is in the best interest of the United States Government; or

(2) Arranging travel services through a TMS or the eTS is impractical or imposes unreasonable burdens or costs on your agency.

(b) Requests for such waivers should be sent to the General Services Administration, Office of Governmentwide Policy (Attention: MTT), 1800 F Street, NW., Washington, DC 20405 with full justification addressing items (a)(1) or (a)(2) of this section.

§ 301-73.104 What are the consequences of an employee not using the eTravel Service or the Travel Management Service?

If an employee does not use the eTravel Service (eTS) (when available) or your agency's designated Travel Management Service (TMS), he/she is responsible for any additional costs (See § 301-50.5) resulting from the failure to use the eTS or your TMS. In addition, you may take appropriate disciplinary actions.

§ 301-73.105 What are the basic services that should be covered by a Travel Management Service?

The Travel Management Service (TMS) must, at a minimum—

(a) Include a travel management center, commercial ticket office (CTO), an in-house system, an electronically available system, or other method(s) of arranging travel, which has the ability to provide the following as appropriate to the agency's travel needs:

(1) Booking and fulfillment of common carrier arrangements (e.g.,, flight confirmation and seat assignment, compliance with the Fly America Act, Governmentwide travel policies, contract city-pair fares, electronic ticketing, and ticket delivery, etc.).

(2) Lodging information (e.g., room availability, reservations and confirmation, compliance with Hotel/Motel Fire Safety Act, availability of Federal Premier Lodging Program properties, per diem rate availability, etc.).

(3) Car rental and rail information (e.g., availability of MTMC Government agreement rates where applicable, confirmation of reservations, etc.).

Note to § 301-73.105(a): You have the option to use the contracted travel agent service(s) of your choice (through the eTS or other contract vehicles). You must ensure that agency-contracted travel agent services complement and support the eTS in an efficient and cost effective manner (see § 301-73.2).

(b) Provide basic management information, such as—

(1) Number of reservations by type of service (common carrier, lodging, and car rental);

(2) Extent to which reservations are in compliance with policy and reasons for exceptions;

(3) Origin and destination points of common carrier usage;

(4) Destination points for lodging accommodations;

(5) Number of lodging nights in approved accommodations;

(6) City or location where car rentals are obtained; and

(7) Other tasks, e.g., reconciliation of charges on centrally billed accounts and processing ticket refunds.

[FR Doc. 03-16454 Filed 6-27-03; 8:45 am]

BILLING CODE 6820-14-P